ENVIRONMENTAL PROTECTION AGENCY

[EPA-HQ-OW-2011-0986; FRL-9617-1]

EPA Workshops on Achieving Water Quality Through Integrated Municipal Stormwater and Wastewater Plans Under the Clean Water Act (CWA)

AGENCY: Environmental Protection Agency (EPA).

ACTION: Notice.

SUMMARY: The Environmental Protection Agency is holding a series of workshops to solicit the individual views of stakeholders on the use of integrated municipal stormwater and wastewater plans to meet the water quality objectives of the CWA. The workshops are intended to assist EPA in developing an integrated planning approach framework that could be used to help municipalities prioritize their infrastructure investments in order to maximize water quality benefits and consider various innovative approaches, such as green infrastructure, that may be more sustainable. The workshops will include a facilitated discussion with representatives of organizations that represent elected local officials, publicly owned treatment works (POTW), municipal stormwater managers, state NPDES permitting and enforcement authorities, and environmental advocacy groups. EPA invites other interested members of the public to observe the workshops and to offer verbal comments at designated times during the workshops.

In addition to submitting information at the listening sessions, the public may also provide input to the Agency through email, fax or mail.

DATES: EPA is asking for statements and input from the interested public on or before February 29, 2012. The dates for the workshops are provided below.

ADDRESSES: Submit your statements or input, identified by Docket ID No. EPA-HQ-OW-2011-0986, by one of the following methods:

• www.regulations.gov: Follow the on-line instructions for submitting input.

• Email: OW-Docket@epa.gov, Attention Docket ID No. EPA-HQ-OW-2011-0986.

• Fax: (202) 566-9744.

• Mail: Water Docket, U.S. Environmental Protection Agency, Mail code: 4203M, 1200 Pennsylvania Ave. NW., Washington, DC 20460. Attention Docket ID No. EPA-HQ-OW-2011-0986.

• Hand Delivery: Water Docket, EPA Docket Center, EPA West Building Room 3334, 1301 Constitution Ave. NW., Washington, DC, Attention Docket ID No. EPA-HQ-OW-2011-0986. Such deliveries are only accepted during the Docket's normal hours of operation, and special arrangements should be made for deliveries of boxed information.

Instructions: Direct your input to Docket ID No. EPA-HQ-OW-2011-0986. EPA's policy is that all input received will be included in the public docket without change and may be made available online at www.regulations.gov, including any personal information provided, unless the input includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your input. If you send an email with input directly to EPA without going through www.regulations.gov your email address will be automatically captured and included as part of the input that is placed in the public docket and made available on the Internet. If you submit an electronic input, EPA recommends that you include your name and other contact information in the body of your input and with any disk or CD-ROM you submit. If EPA cannot read your input due to technical difficulties and cannot contact you for clarification, EPA may not be able to consider your input. Electronic files should avoid the use of special characters, any form of encryption, and be free of any defects or viruses. For additional information about EPA's public docket visit the EPA Docket Center homepage at http://www.epa.gov/epahome/dockets.htm.

FOR FURTHER INFORMATION CONTACT: For further information about this notice, contact Kevin Weiss, EPA Headquarters, Office of Water, Office of Wastewater Management at tel.: (202) 564-0742 or email: weiss.kevin@epa.gov.

Workshop Dates and Addresses: The workshops will be held on the following dates at the listed locations:

• January 31, 2012, 10 a.m. to 3 p.m. at EPA Region 4 Office, 61 Forsyth Street SW., Atlanta, GA 30303;

• February 6, 2012, 10 a.m. to 3 p.m. at EPA Region 2 Office, 290 Broadway, New York, NY 10007-1866;

• February 13, 2012, 10 a.m. to 3 p.m. at EPA Region 10 Office, 1200 Sixth Avenue Seattle, WA 98101;

• February 15, 2012, 10 a.m. to 3 p.m. at EPA Region 7 Office, 901 N. 5th Street Kansas City, KS 66101; and

• February 17, 2012, 10 a.m. to 3 p.m. at EPA Region 5 Office, 77 West Jackson Boulevard Chicago, IL 60604-3507.

If you plan to participate in a workshop as an observer, whether or not you plan to make verbal comments, EPA requests that you preregister by January 20, 2012 at http://www.epa.gov/npdes/integratedplans.

SUPPLEMENTARY INFORMATION:

I. Background

Since the passage of the CWA, great progress has been made toward restoring the nation's waters. Many more streams, rivers and bays are fishable and swimmable than 40 years ago. During this time, the overall number of people served by municipal wastewater treatment facilities that either do not discharge or provide at least secondary treatment increased from 84.1 million in 1972 to 222.5 million in 2008. In addition, many municipalities have begun to make significant investments in advanced treatment, controlling combined sewer overflows (CSOs) and sanitary sewer overflows (SSOs) and are beginning to address water quality problems associated with stormwater.

While significant progress has been made in reducing pollutant discharges, much work remains to be done to restore impaired waters. The challenges municipalities face in making additional water quality improvements are particularly complex. Providing advanced treatment for nutrients and controlling combined sewer overflows (CSOs), sanitary sewer overflows (SSOs), and stormwater can present difficult and expensive engineering challenges. Population growth, aging infrastructure, and the current economic challenges are stressing many municipalities that are implementing CWA programs. Many state and local governments face difficult financial conditions. Their ability to finance improvements by raising revenues or issuing bonds has been significantly impacted during the ongoing economic recovery. EPA is committed to work with States and municipalities to improve how CWA programs are implemented to ensure continued progress in public health and environmental protection.

EPA believes that integrated planning can better meet America's clean water objectives, create jobs and strengthen our economy by offering municipalities an opportunity to meet their CWA requirements in a more cost-effective manner. To encourage integrated planning efforts, on October 27, 2011, EPA's Office of Water and Office of Enforcement Compliance and Assurance issued a joint memorandum to the EPA Regions that expresses the Agency's commitment to and support for integrated approaches to municipal stormwater and wastewater management. The integrated approach provides interested municipalities with an opportunity to develop a comprehensive plan that balances competing CWA requirements and allows municipalities to focus their resources on the most pressing public health and environmental protection issues first. The integrated approach is voluntary and the responsibility to develop an integrated plan rests with municipalities.

The integrated planning approach maintains existing regulatory standards for the protection of public health and water quality. The approach takes advantage of the flexibilities in existing EPA regulations, policies and guidance to allow municipalities to sequence implementation of their CWA obligations to focus on the highest priorities first. EPA and/or the State will work with municipalities who are interested in this concept to develop appropriate requirements and schedules.

As part of the integrated approach, EPA encourages municipalities to pursue more innovative approaches such as green infrastructure technologies and asset management or similar utility-wide planning approaches. EPA has strongly encouraged these innovative approaches for several years. Many cities and communities have implemented green infrastructure approaches and are starting to see that the value of such projects goes beyond protecting water resources. In addition to improving water quality, green infrastructure also makes communities more livable by providing opportunities for greenways and multiuse recreational areas, improves property values, saves energy and creates green jobs. On April 29, 2011, EPA released the Strategic Agenda to Protect Waters and Build More Livable Communities Through Green Infrastructure. The Strategic Agenda outlines activities that EPA is taking to help communities implement green infrastructure approaches. This Strategy is intended to advance the wider use of green infrastructure within the regulatory and enforcement contexts through improvements in outreach and information exchange, financing, and tool development and capacity building. EPA continues to work closely with State and local governments to incorporate green infrastructure approaches within permits and enforcement actions.

II. Purpose of the Workshops on Integrated Municipal Stormwater and Wastewater Plans

In conjunction with the October 27, 2011 memorandum, EPA is developing a framework document that will more fully describe the integrated planning concept that could be used to help EPA work with State and local governments toward providing for cost-effective, integrated solutions to multiple causes of water pollution. The Agency anticipates that the framework document will identify and clarify overarching principles that EPA and states will use in working with municipalities to implement an integrated approach as well as guiding principles that EPA recommends municipalities use in the development of their integrated plans. The framework document will identify the key elements that EPA anticipates will be in an effective integrated plan. The framework will also discuss the appropriate roles of permit and enforcement authorities in addressing the regulatory requirements identified in the plan.

EPA will hold five workshops to discuss a draft of the integrated planning framework. The workshops will be facilitated discussions with individuals from a range of stakeholder groups to assist EPA in developing the framework through gaining better understanding of their individual perspectives. EPA is not seeking group recommendations, but rather seeks to hear from individuals with different perspectives. Prior to these meetings, EPA will post a draft of the framework document at http://www.epa.gov/npdes/integratedplans. The draft framework posted on EPA's Web site will be updated as appropriate.

III. Participation in the Workshop

Members of the public are welcome to participate as observers in the workshop. The agenda will be structured to invite specific verbal comments from observers on key issues. If you plan to participate as an observer at the workshop, whether or not you plan to make verbal comments, in order that EPA may properly anticipate the correct number of people, EPA requests that you preregister by January 20, 2012 at http://www.epa.gov/npdes/integratedplans.

Authority: Clean Water Act, 33 U.S.C. 1251 et seq.

Dated: January 3, 2012.
Nancy K. Stoner,
Acting Assistant Administrator, Office of Water.

[FR Doc. 2012-343 Filed 1-10-12; 8:45 am]

BILLING CODE 6560-50-P